DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) will file the plat of survey of the lands described below in the BLM Idaho State Office, Boise, Idaho, 30 days from the date of publication in the Federal Register.

FOR FURTHER INFORMATION CONTACT: Bureau of Land Management, 1387 South Vinnell Way, Boise, Idaho, 83709-1657.

SUPPLEMENTARY INFORMATION: This survey was executed at the request of the Bureau of Land Management to meet certain administrative needs of the Bureau of Land Management. The lands we surveyed are:

The plat representing the dependent resurvey of a portion of the Boise Meridian (west boundary), subdivisional lines, and the adjusted 1896 record meanders of “Gamble” Lake in section 7, and the subdivision of section 7, and the survey of the 2002 meanders of an unnamed island within Gamlin Lake in section 7, and the metes-and-bounds survey of the public land boundary in the E½, the right-of-way lines of Camp Bay Road in the SW¼, and the north line of lot 12, all in section 7, in T. 56 N., R. 1 E., Boise Meridian, Idaho, was accepted August 15, 2003.

Dated: August 22, 2003.
Harry K. Smith,
Chief Cadastral Surveyor for Idaho.

[FR Doc. 03-22003 Filed 8-27-03; 8:45 am]

BILLING CODE 4310-GG-P